FEDERAL TRADE COMMISSION

Agency Information Collection Activities; Submission for OMB Review; Comment Request

AGENCY: Federal Trade Commission (FTC).

ACTION: Notice and request for comment.

SUMMARY: The FTC requests that the Office of Management and Budget (OMB) extend for three years the current PRA clearance for information collection requirements contained in the Telemarketing Sales Rule (“TSR”). That clearance expires on August 31, 2019.

DATES: Comments must be received by September 3, 2019.

ADDRESSES: Comments in response to this notice should be submitted to the OMB Desk Officer for the Federal Trade Commission within 30 days of this notice. You may submit comments using any of the following methods:

Electronic: Write “TSR: PRA Comment, P072108,” on your comment and file your comment online at https://www.regulations.gov, by following the instructions on the web-based form.

Email: MBX.OMB.OIRA.Submission@OMB.eop.gov.

Fax: (202) 395-5806.

Mail: Office of Information and Regulatory Affairs, Office of Management and Budget, Attention: Desk Officer for the Federal Trade Commission, New Executive Office Building, Docket Library, Room 10102, 725 17th Street NW, Washington, DC 20503.

FOR FURTHER INFORMATION CONTACT: Patricia Hsue, Staff Attorney, Division of Marketing Practices, Bureau of Consumer Protection, Federal Trade Commission, Room CC-8528, 600 Pennsylvania Avenue NW, Washington, DC 20580, or by telephone to (202) 326-3132.

SUPPLEMENTARY INFORMATION:

Title: Telemarketing Sales Rule (TSR or Rule), 16 CFR part 310.

OMB Control Number: 3084-0097.

Type of Review: Extension of a currently approved collection.

Abstract: As required by the Telemarketing and Consumer Fraud and Abuse Prevention Act, 15 U.S.C. 6101-6108 (the “Telemarketing Act”), the TSR mandates certain disclosures for telephone sales and requires telemarketers to retain certain records regarding advertising, sales, and employees. The required disclosures provide consumers with information necessary to make informed purchasing decisions. The required records are to be made available for inspection by the Commission and other law enforcement personnel to determine compliance with the Rule. Required records may also yield information helpful to measuring and redressing consumer injury stemming from Rule violations.

On May 20, 2019, the FTC sought comment on the information collection requirements associated with the Rule. 84 FR 22844. The FTC received four comments, none of which was germane to the issues that the agency sought comment on pursuant to the Paperwork Reduction Act (“PRA”) renewal request. Pursuant to OMB regulations, 5 CFR part 1320, that implement the PRA, 44 U.S.C. 3501 et seq., the FTC is providing this second opportunity for public comment while seeking OMB approval to renew the pre-existing clearance for the Rule. For more details about the Rule requirements and the basis for the calculations summarized below, see 84 FR 22844.

Likely Respondents: Telemarketers to consumers.

Estimated Annual Hours Burden: 1,233,817 hours.

• Disclosures (for live telemarketing calls and prerecorded calls): 1,219,428 hours (which is derived from 826,389 hours pre-sales disclosures + 366,588 hours general sales disclosures + 26,451 hours specific sales disclosures).

• Reporting: 328 hours.

• Recordkeeping: 14,061 hours.

Estimated Annual Labor Cost Burden: $17,181,914 (which is derived from $446,862 (recordkeeping) + $16,730,552 (disclosure) + $4,500 (reporting).¹

¹ The hourly wage rates for sales and related workers are based on mean hourly wages found at https://www.bls.gov/news.release/ocwage.htm (“Occupational Employment and Wages-May 2018,” U.S. Department of Labor, released March 2019, Table 1 (“National employment and wage data from the Occupational Employment Statistics survey by occupation, May 2018”).

Estimated Annual Non-Labor Cost: $4,717,991 (which is derived from $328,050 (office supplies) + $4,389,941 (telephone charges)).

Request for Comment

Your comment—including your name and your state—will be placed on the public record of this proceeding at the https://www.regulations.gov website. Because your comment will be made public, you are solely responsible for making sure that your comment does not include any sensitive personal information, such as anyone's Social Security number; date of birth; driver's license number or other state identification number, or foreign country equivalent; passport number; financial account number; or credit or debit card number. You are also solely responsible for making sure that your comment does not include any sensitive health information, such as medical records or other individually identifiable health information. In addition, your comment should not include any “trade secret or any commercial or financial information which . . . is privileged or confidential”—as provided by Section 6(f) of the FTC Act, 15 U.S.C. 46(f), and FTC Rule 4.10(a)(2), 16 CFR 4.10(a)(2)—including in particular competitively sensitive information such as costs, sales statistics, inventories, formulas, patterns, devices, manufacturing processes, or customer names.

Heather Hippsley,
Deputy General Counsel.

[FR Doc. 2019-16514 Filed 8-1-19; 8:45 am]

BILLING CODE 6750-01-P